Title 3—

The President

Proclamation 8775 of January 31, 2012

American Heart Month, 2012

By the President of the United States of America

A Proclamation

Every year, heart disease takes the lives of over half a million Americans, and it remains the leading cause of death in the United States. This devastating epidemic leaves no one untouched; its victims are fathers and daughters, grandparents and siblings, cherished friends and community members across our country. This month, we remember the steps each of us can take to reduce the risk of heart disease and recommit to better heart health for all Americans.

While genetic or hereditary factors play a part in many instances of cardiovascular disease, high cholesterol, high blood pressure, physical inactivity, obesity, tobacco use, and alcohol abuse are major risk factors that can be prevented or controlled. To take action against heart disease, I encourage all Americans to make balanced and nutritious meal choices, maintain a healthy weight, and get active. Avoiding tobacco, moderating alcohol consumption, and working with a health care provider can also help prevent or treat conditions that can lead to heart disease. Additional resources on how to reduce the risk of cardiovascular disease are available at: www.CDC.gov/HeartDisease.

To help win the fight against heart disease, my Administration is working to ensure individuals and communities have the tools they need to make real gains in this critical effort. Last September, we launched the Million Hearts initiative, which is coordinating programs across Federal agencies and forging new public-private partnerships to prevent one million heart attacks and strokes over the next 5 years. Resources on how to join the initiative are available at: MillionHearts.HHS.gov. To secure our children’s heart health and end childhood obesity within a generation, First Lady Michelle Obama’s Let’s Move! initiative is encouraging healthy eating habits and promoting physical activity among families and young people. The National Institutes of Health is pursuing cutting-edge research to unlock new treatments for cardiovascular disease. And the Centers for Disease Control and Prevention is working in communities across our country to help reduce risk factors and prevent heart disease.

During American Heart Month, we also highlight The Heart Truth, a national awareness campaign that urges women of all ages to know their risk for heart disease. In recognition of this vital task, I encourage men and women across America to observe National Wear Red Day on Friday, February 3, and to show their support by wearing red or the campaign’s Red Dress Pin. To learn more about The Heart Truth or National Wear Red Day, visit: www.HeartTruth.gov.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2012 as American Heart Month, and I invite all Americans to participate in National Wear Red Day on February 3, 2012. I also invite the Governors of the States, the Commonwealth of Puerto Rico, officials of other areas subject to the jurisdiction of the United States, and the American people to join me in recognizing and reaffirming our commitment to fighting cardiovascular disease.

IN WITNESS WHEREOF, I have hereunto set my hand this thirty-first day of January, in the year of our Lord two thousand twelve, and of the Independence of the United States of America the two hundred and thirty-sixth.

[FR Doc. 2012-2592

Filed 2-2-12; 8:45 am]

Billing code 3295-F2-P